DEPARTMENT OF HOMELAND SECURITY

Coast Guard

46 CFR Parts 50, 52, 53, 54, 56, 57, 58, 59, 61, 62, 63, and 64

[Docket No. USCG-2020-0634]

RIN 1625-AC72

Updates to Marine Engineering Standards

AGENCY: Coast Guard, DHS.

ACTION: Notice of proposed rulemaking; extension of comment period.

SUMMARY: The Coast Guard is extending the comment period by 45 days for the notice of proposed rulemaking, “Updates to Marine Engineering Standards,” published on October 19, 2021, which proposes to incorporate by reference updated marine engineering standards and eliminate outdated or unnecessarily prescriptive regulations. We are extending the comment period to allow the public more time to comment on the proposed rulemaking. The comment period is now open through February 3, 2022.

DATES: The deadline for the comment period for the proposed rule published October 19, 2021 (86 FR 57896) is extended. Comments and related material must be received by the Coast Guard on or before February 3, 2022.

ADDRESSES: You may submit comments identified by docket number USCG-2020-0634 using the Federal eRulemaking Portal at https://www.regulations.gov. See the “Public Participation and Request for Comments” portion of the SUPPLEMENTARY INFORMATION section for further instructions on submitting comments.

FOR FURTHER INFORMATION CONTACT: For further information about this document call or email Thane Gilman, Systems Engineering Division (CG-ENG-3), 2703 Martin Luther King Jr. Ave. SE, Washington, DC 20593. Phone (202) 372-1383, Email: thane.gilman@uscg.mil.

SUPPLEMENTARY INFORMATION:

Public Participation and Request for Comments

The Coast Guard views public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at www.regulations.gov. If you cannot submit your material by using www.regulations.gov, call or email the person in the FOR FURTHER INFORMATION CONTACT section of this proposed rule for alternate instructions. We review all comments received, but we will only post comments that address the topic of the proposed rule. We may choose not to post off-topic, inappropriate, or duplicate comments that we receive.

We accept anonymous comments. All comments we post to https://www.regulations.gov will include any personal information you have provided. For more about privacy and submissions in response to this document, see the Department of Homeland Security's eRulemaking System of Records notice (85 FR 14226, March 11, 2020).

Background and Discussion

We issued a notice of proposed rulemaking, “Updates to Marine Engineering Standards,” on October 19, 2021 (86 FR 57896). In it we proposed to incorporate by reference updated marine engineering standards and eliminate outdated or unnecessarily prescriptive regulations in title 46 of the Code of Federal Regulations (CFR) subchapter F. This proposed rule is part of a continuing effort for regulatory reform that increases compliance options for the regulated public while providing a cost savings to the regulated public and the U.S. government.

We set a 60-day comment period for the proposed rule and received a request to extend the comment period by an additional 90 days. The requester cited the scope of the changes in the proposed rule requiring analysis, the overlap with the upcoming holiday season, and the reduction in workforce availability due to the COVID-19 pandemic as reasons for the requested extension.

Since the proposed rule is primarily updating standards incorporated by reference in the CFR to current editions already used by industry, we do not believe public comment will require substantial technical or economic analysis. However, inconsideration of the commenter's other concerns, we have decided to extend the public comment period by 45 days. The comment period is now open through February 3, 2022.

This document is issued under the authority of 5 U.S.C. 552(a).

Dated: December 15, 2021.
J.W. Mauger,
Rear Admiral, U.S. Coast Guard, Assistant Commandant for Prevention Policy.

[FR Doc. 2021-27567 Filed 12-17-21; 8:45 am]

BILLING CODE 9110-04-P